FEDERAL COMMUNICATIONS COMMISSION

[FR ID 114495]

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Thursday, December 8, 2022 in the Commission Meeting Room and available to the public via the internet at http://www.fcc.gov/live at 10 a.m.

DATES: Thursday, December 8, 2022.

ADDRESSES: Federal Communications Commission, 45 L Street NE, Washington, DC 20554.

FOR FURTHER INFORMATION CONTACT: Michael Ha, Chief, Policy and Rules Division 202-418-2099; michael.ha@fcc.gov.

SUPPLEMENTARY INFORMATION: At the December 8th meeting, the TAC will continue to consider and advise the Commission on topics such as 6G, artificial intelligence, advanced spectrum sharing technologies, and emerging wireless technologies, including new tools to restore internet access during shutdowns and other disruptions. This agenda may be modified at the discretion of the TAC Chair and the Designated Federal Officer (DFO). All attendees should arrive early to allow ample time for processing through the Commission's security screening. As required by Federal COVID-19 safety protocols, all visitors to FCC's facilities in any county where the COVID-19 Community Level is HIGH will be required to wear a “high quality” mask throughout their visit to that facility. Please refer to: https://www.fcc.gov/visit for further information. The public may submit written comments before the meeting to Michael Ha, the FCC's Designated Federal Officer for Technological Advisory Council by email: michael.ha@fcc.gov or U.S. Postal Service Mail (Michael Ha, Federal Communications Commission, 45 L Street NE, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted but may not be possible to fill.

Federal Communications Commission.
Ronald T. Repasi,
Acting Chief, Office of Engineering and Technology.

[FR Doc. 2022-25607 Filed 11-22-22; 8:45 am]

BILLING CODE 6712-01-P